DEPARTMENT OF JUSTICE

Office of Justice Programs

[OJP (OJJDP) Docket No. 1645]

Meeting of the Federal Advisory Committee on Juvenile Justice

AGENCY: Office of Juvenile Justice and Delinquency Prevention, Justice.

ACTION: Notice of webinar meeting.

SUMMARY: The Office of Juvenile Justice and Delinquency Prevention (OJJDP) announces a webinar meeting of the Federal Advisory Committee on Juvenile Justice (FACJJ). This meeting is a continuation of the meeting that began on Monday, December 9, 2013. Due to inclement weather, the second day of the FACJJ meeting scheduled on Tuesday, December 10, 2013, had to be cancelled.

Dates and Location: The meeting will take place online, as a webinar, on Friday, February 7, 2014, from 2 to 5 p.m. ET.

FOR FURTHER INFORMATION CONTACT: Kathi Grasso, Designated Federal Official, OJJDP, Kathi.Grasso@usdoj.gov, or (202) 616-7567. [This is not a toll-free number.]

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.org.

Meeting Agenda: The agenda will include: (a) Welcome and introductions; (b) Remarks from the OJJDP Administrator; (c) Presentations and facilitated discussion with FACJJ members on NAS Report: Reforming Juvenile Justice: A Developmental Approach, as well as The Supportive School Discipline Initiative of the U.S. Departments of Justice and Education; (d) FACJJ's future role/activities; and (e) miscellaneous FAC business matters.s

To participate in or view the webinar meeting, members of the FACJJ and the public must pre-register online. Members and interested persons must link to the webinar registration portal through www.facjj.org no later than Monday, February 3, 2014. Upon registration, information will be sent to you at the email address you provide to enable you to connect to the webinar. Should problems arise with webinar registration, please call Michelle Duhart-Tonge at 703-225-2103 [This is not a toll-free telephone number.] Note: Members of the public will be able to listen to and view the webinar as observers, but will not be able to actively participate during the webinar.

An on-site room is available for members of the public interested in viewing the webinar in person. If members of the public wish to view the webinar in person, they must notify Kathi Grasso by email message to Kathi.grasso@usdoj.gov, no later than Monday, February 3, 2014.

Please note that FACJJ members will not be physically present in Washington, DC for the webinar. They will participate in the webinar from their respective home jurisdictions.

Written Comments: Interested parties may submit written comments in advance to Kathi Grasso, Designated Federal Official, by email message to Kathi.Grasso@usdoj.gov, no later than Monday, February 3, 2013. Alternatively, fax your comments to 202-307-2819 and contact Joyce Mosso Stokes at 202-305-4445 to ensure that they are received. [These are not toll-free numbers.]

Robert L. Listenbee,
Administrator, Office of Juvenile Justice and Delinquency Prevention.

[FR Doc. 2014-01136 Filed 1-21-14; 8:45 am]

BILLING CODE 4410-18-P